DEPARTMENT OF THE TREASURY

Submission for OMB Review; Comment Request

April 4, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before May 13, 2002 to be assured of consideration.

Internal Revenue Service (IRS)

OMB Number: 1545-0152.

Form Number: IRS Form 3115.

Type of Review: Extension.

Title: Application for Change in Accounting Method.

Description: Form 3115 is used by taxpayers who wish to change their method of computing their taxable income. The form is used by the IRS to determine if electing taxpayers have met the requirements and are able to change to the method requested.

Respondents: Business or other for-profit, individuals or households, not-for-profit institutions, farms.

Estimated Number of Respondents/Recordkeepers: 6,400.

Estimated Burden Hours Per Respondent/Recordkeeper:

Form | Recordkeeping | Learning about the law or the form | Preparing and sending the form to the IRS
Form 3115 | 20 hr., 34 min | 3 hr., 15 min | 4 hr., 55 min.
Schedule A | 4 hr., 18 min | 1 hr., 40 min | 1 hr., 50 min.
Schedule B | 4 hr., 46 min | 45 min | 2 hr., 4 min.
Schedule C | 27 hr., 1 min | 1 hr., 39 min | 3 hr., 22 min.
Schedule D | 5 hr., 1 min | 1 hr., 59 min | 2 hr., 9 min.

Frequency of Response: On occasion, Quarterly, Other (when needed).

Estimated Total Reporting/Recordkeeping Burden: 272,062 hours.

Clearance Officer: Glenn P. Kirkland, Internal Revenue Service, Room 6411, 1111 Constitution Avenue, NW, Washington, DC 20224.

OMB Reviewer: Alexander T. Hunt, (202) 395-7860, Office of Management and Budget, Room 10202, New Executive Office Building, Washington, DC 20503.

Mary A. Able,
Departmental Reports, Management Officer.

[FR Doc. 02-8802 Filed 4-10-02; 8:45 am]

BILLING CODE 4830-01-P